DEPARTMENT OF ENERGY

Federal Energy Regulatory Commission

Sunshine Act; Meeting

December 12, 2001.

The following notice of meeting is published pursuant to section 3(A) of the government in the Sunshine Act (Pub. L. No. 94-409), 5 U.S.C 552B:

AGENCY HOLDING MEETING: Federal Energy Regulatory Commission.

DATE AND TIME: December 19, 2001, 10:00 a.m.

PLACE: ROOM 2C, 888 First Street, N.E. Washington, D.C. 20426.

STATUS: OPEN.

MATTERS TO BE CONSIDERED: Agenda * Note—Items listed on the agenda may be deleted without further notice.

CONTACT PERSON FOR MORE INFORMATION: Linwood A. Watson, Jr., Acting Secretary, Telephone (202) 208-0400. For a recording listing items stricken from or added to the meeting, call (202) 208-1627.

This is a list of matters to be considered by the Commission. It does not include a listing of all papers relevant to the items on the agenda; however, all public documents may be examined in the Reference and Information Center.

78th—Meeting December 19, 2001; Regular Meeting 10 a.m. Markets, Tariffs and Rates Electric

E-1.

DOCKET# EX02-7, 000, Transmission Constraints

E-2.

DOCKET# RM01-12, 000, Electricity Market Design and Structure

E-3.

DOCKET# ER02-162, 000, Erie Boulevard Hydropower, L.P.

OTHER#S ER00-2998, 001, Southern Company Services, Inc.

ER00-2999, 001, Southern Company Services, Inc.

ER00-3000, 000, Southern Company Services, Inc.

ER00-3001, 001, Southern Company Services, Inc.

E-4.

DOCKET# ER02-159, 000, GNE, LLC

E-5.

DOCKET# ER02-209, 000, New York Independent System Operator, Inc.

E-6.

DOCKET# ER01-2783, 000, ODEC Power Trading, Inc.

OTHER#S ER01-2783, 001, ODEC Power Trading, Inc.

E-7.

DOCKET# ER02-194, 000, New York Independent System Operator, Inc.

E-8.

DOCKET# ER01-812, 000, Geysers Power Company, LLC

OTHER#S ER01-812, 001, Geysers Power Company, LLC

E-9.

DOCKET# ER02-198, 000, Mirant Delta, LLC and Mirant Potrero, LLC

E-10.

DOCKET# ER02-185, 000, New England Power Pool

OTHER#S ER02-185, 001, New England Power Pool

E-11.

DOCKET# ER02-208, 000, Pacific Gas and Electric Company

E-12.

DOCKET# ER02-235, 000, PJM Interconnection, LLC

E-13.

DOCKET# ER02-246, 000, Boston Edison Company, Cambridge Electric Light Company and Commonwealth Electric Company (NSTAR Companies)

E-14.

DOCKET# ER02-250, 000, California Independent System Operator Corporation

E-15.

DOCKET# ER02-240, 000, Duke Energy Oakland LLC

E-16.

DOCKET# ER02-236, 000, Geysers Power Company, LLC

E-17.

DOCKET# ER02-249, 000, ISO New England Inc.

OTHER#S ES02-7 000, ISO New England Inc.

ER02-233 000, ISO New England Inc.

E-18.

DOCKET# ER02-40, 000, Attala Generating Company, LLC

OTHER#S ER02-40, 001, Attala Generating Company, LLC

E-19.

DOCKET# ER02-269, 000, Mill Run Windpower, LLC

OTHER#S ER00-2998, 001, Southern Company Services, Inc.

ER00-2999, 001, Southern Company Services, Inc.

ER00-3000, 001, Southern Company Services, Inc.

ER00-3001, 001, Southern Company Services, Inc.

E-20.

DOCKET# ER02-270, 000, Somerset Windpower, LLC

OTHER#S ER00-2998, 001, Southern Company Services, Inc.

ER00-2999 001, Southern Company Services, Inc.

ER00-3000, 001, Southern Company Services, Inc.

ER00-3001, 001, Southern Company Services, Inc.

E-21.

DOCKET# ER02-275 000, Wisconsin Electric Power Company

OTHER#S ER02-285, 000, American Transmission Company, LLC

ER02-288, 000, Madison Gas and Electric Company

ER02-291, 000, Wisconsin Public Service Corporation

ER02-291, 001, Wisconsin Public Service Corporation

ER02-299, 000, Wisconsin Power and Light Company

E-22.

DOCKET# ER02-305, 000, Condon Wind Power, LLC

OTHER#S ER00-2998, 001, Southern Company Services, Inc.

ER00-2999, 001, Southern Company Services, Inc.

ER00-3000, 001, Southern Company Services, Inc.

ER00-3001, 001, Southern Company Services, Inc.

E-23.

DOCKET# RM02-1, 000, Standardizing Generator Interconnection Agreement and Procedures

E-24.

DOCKET# ER99-3144, 000, Alliance Companies, Ameren Corporation, Union Electric Company, Central Illinois Public Service Company, American Electric Power Service Corporation On behalf of: Appalachian Power Company, Columbus Southern Power Company, Indiana Michigan Power Company, Kentucky Power Company, Kingsport Power Company, Ohio Power Company, Wheeling Power Company, Consumers Energy Company and Michigan Electric Transmission Company, Dayton Power and Light Company, Detroit Edison Company and International Transmission Company

OTHER#S EC99-80, 000, Alliance Companies, Ameren Corporation, Union Electric Company, Central Illinois Public Service Company, American Electric Power Service Corporation on behalf of: Appalachian Power Company, Columbus Southern Power Company, Indiana Michigan Power Company, Kentucky Power Company, Kingsport Power Company, Ohio Power Company, Wheeling Power Company, Consumers Energy Company and Michigan Electric Transmission Company, Dayton Power and Light Company, Detroit Edison Company and International Transmission Company

EC99-80, 001, Alliance Companies, Ameren Cor-Poration, Union Electric Company, Central Illinois Public Service Company, American Electric Power Service Corporation on behalf of: Appalalachian Power Company, Columbus Southern Power Company, Indiana Michigan Power Company, Kentucky Power Company, Kingsport Power Company, Ohio Power Company, Wheeling Power Company, Consumers Energy Company and Michigan Electric Transmission Company, Dayton Power and Light Company, Detroit Edison Company and International Transmission Company

EC99-80, 002, Alliance Companies, Ameren Corporation, Union Electric Company, Central Illinois Public Service Company, American Electric Power Service Corporation on behalf of: Appalachian Power Company, Columbus Southern Power Company, Indiana Michigan Power Company, Kentucky Power Company, Kingsport Power Company, Ohio Power Company, Wheeling Power Company, Consumers Energy Company and Michigan Electric Transmission Company, Dayton Power and Light Company, Detroit Edison Company and International Transmission Company

EC99-80, 003, Alliance Companies, Ameren Corporation, Union Electric Company, Central Illinois Public Service Company, American Electric Power Service Corporation on behalf of: Appalachian Power Company, Columbus Southern Power Company, Indiana Michigan Power Company, Kentucky Power Company, Kingsport Power Company, Ohio Power Company, Wheeling Power Company, Consumers Energy Company and Michigan Electric Transmission Company, Dayton Power and Light Company, Detroit Edison Company and International Transmission Company

EC99-80, 004, Alliance Companies, Ameren Corporation, Union Electric Company, Central Illinois Public Service Company, American Electric Power Service Corporation on behalf of: Appalachian Power Company, Columbus Southern Power Company, Indiana Michigan Power Company, Kentucky Power Company, Kingsport Power Company, Ohio Power Company, Wheeling Power Company, Consumers Energy Company and Michigan Electric Transmission Company, Dayton Power and Light Company, Detroit Edison Company and International Transmission Company

EC99-80, 005, Alliance Companies, Ameren Corporation, Union Electric Company, Central Illinois Public Service Company, American Electric Power Service Corporation on behalf of: Appalachian Power Company, Columbus Southern Power Company, Indiana Michigan Power Company, Kentucky Power Company, Kingsport Power Company, Ohio Power Company, Wheeling Power Company, Consumers Energy Company and Michigan Electric Transmission Company, Dayton Power and Light Company, Detroit Edison Company and International Transmission Company

EC99-80, 006, Alliance Companies, Ameren Corporation, Union Electric Company, Central Illinois Public Service Company, American Electric Power Service Corporation on behalf of: Appalachian Power Company, Columbus Southern Power Company, Indiana Michigan Power Company, Kentucky Power Company, Kingsport Power Company, Ohio Power Company, Wheeling Power Company, Consumers Energy Company and Michigan Electric Transmission Company, Dayton Power and Light Company, Detroit Edison Company and International Transmission Company

EC99-80, 007, Alliance Companies, Ameren Corporation, Union Electric Company, Central Illinois Public Service Company, American Electric Power Service Corporation on behalf of: Appalachian Power Company, Columbus Southern Power Company, Indiana Michigan Power Company, Kentucky Power Company, Kingsport Power Company, Ohio Power Company, Wheeling Power Company, Consumers Energy Company and Michigan Electric Transmission Company, Dayton Power and Light Company, Detroit Edison Company and International Transmission Company

EC99-80, 008, Alliance Companies, Ameren Corporation, Union Electric Company, Central Illinois Public Service Company, American Electric Power Service Corporation on behalf of: Appalachian Power Company, Columbus Southern Power Company, Indiana Michigan Power Company, Kentucky Power Company, Kingsport Power Company, Ohio Power Company, Wheeling Power Company, Consumers Energy Company and Michigan Electric Transmission Company, Dayton Power and Light Company, Detroit Edison Company and International Transmission Company

EC99-80, 009, Alliance Companies, Ameren Corporation, Union Electric Company, Central Illinois Public Service Company, American Electric Power Service Corporation on behalf of: Appalachian Power Company, Columbus Southern Power Company, Indiana Michigan Power Company, Kentucky Power Company, Kingsport Power Company, Ohio Power Company, Wheeling Power Company, Consumers Energy Company and Michigan Electric Transmission Company, Dayton Power and Light Company, Detroit Edison Company and International Transmission Company

EC99-80, 010, Alliance Companies, Ameren Corporation, Union Electric Company, Central Illinois Public Service Company, American Electric Power Service Corporation on behalf of: Appalachian Power Company, Columbus Southern Power Company, Indiana Michigan Power Company, Kentucky Power Company, Kingsport Power Company, Ohio Power Company, Wheeling Power Company, Consumers Energy Company and Michigan Electric Transmission Company, Dayton Power and Light Company, Detroit Edison Company and International Transmission Company

EC99-80, 011, Alliance Companies, Ameren Corporation, Union Electric Company, Central Illinois Public Service Company, American Electric Power Service Corporation on behalf of: Appalachian Power Company, Columbus Southern Power Company, Indiana Michigan Power Company, Kentucky Power Company, Kingsport Power Company, Ohio Power Company, Wheeling Power Company, Consumers Energy Company and Michigan Electric Transmission Company, Dayton Power and Light Company, Detroit Edison Company and International Transmission Company

EC99-80, 012, Alliance Companies, Ameren Corporation, Union Electric Company, Central Illinois Public Service Company, American Electric Power Service Corporation on behalf of: Appalachian Power Company, Columbus Southern Power Company, Indiana Michigan Power Company, Kentucky Power Company, Kingsport Power Company, Ohio Power Company, Wheeling Power Company, Consumers Energy Company and Michigan Electric Transmission Company, Dayton Power and Light Company, Detroit Edison Company and International Transmission Company

EC99-80, 014, Alliance Companies, Ameren Corporation, Union Electric Company, Central Illinois Public Service Company, American Electric Power Service Corporation on behalf of: Appalachian Power Company, Columbus Southern Power Company, Indiana Michigan Power Company, Kentucky Power Company, Kingsport Power Company, Ohio Power Company, Wheeling Power Company, Consumers Energy Company and Michigan Electric Transmission Company, Dayton Power and Light Company, Detroit Edison Company and International Transmission Company

ER99-3144, 001, Alliance Companies, Ameren Corporation, Union Electric Company, Central Illinois Public Service Company, American Electric Power Service Corporation on behalf of: Appalachian Power Company, Columbus Southern Power Company, Indiana Michigan Power Company, Kentucky Power Company, Kingsport Power Company, Ohio Power Company, Wheeling Power Company, Consumers Energy Company and Michigan Electric Transmission Company, Dayton Power and Light Company, Detroit Edison Company and International Transmission Company

ER99-3144, 002, Alliance Companies, Ameren Corporation, Union Electric Company, Central Illinois Public Service Company, American Electric Power Service Corporation on behalf of: Appalachian Power Company, Columbus Southern Power Company, Indiana Michigan Power Company, Kentucky Power Company, Kingsport Power Company, Ohio Power Company, Wheeling Power Company, Consumers Energy Company and Michigan Electric Transmission Company, Dayton Power and Light Company, Detroit Edison Company and International Transmission Company

ER99-3144, 003, Alliance Companies, Ameren Corporation, Union Electric Company, Central Illinois Public Service Company, American Electric Power Service Corporation on behalf of: Appalachian Power Company, Columbus Southern Power Company, Indiana Michigan Power Company, Kentucky Power Company, Kingsport Power Company, Ohio Power Company, Wheeling Power Company, Consumers Energy Company and Michigan Electric Transmission Company, Dayton Power and Light Company, Detroit Edison Company and International Transmission Company

ER99-3144, 004, Alliance Companies, Ameren Corporation, Union Electric Company, Central Illinois Public Service Company, American Electric Power Service Corporation on behalf of: Appalachian Power Company, Columbus Southern Power Company, Indiana Michigan Power Company, Kentucky Power Company, Kingsport Power Company, Ohio Power Company, Wheeling Power Company, Consumers Energy Company and Michigan Electric Transmission Company, Dayton Power and Light Company, Detroit Edison Company and International Transmission Company

ER99-3144, 005, Alliance Companies, Ameren Corporation, Union Electric Company, Central Illinois Public Service Company, American Electric Power Service Corporation on behalf of: Appalachian Power Company, Columbus Southern Power Company, Indiana Michigan Power Company, Kentucky Power Company, Kingsport Power Company, Ohio Power Company, Wheeling Power Company, Consumers Energy Company and Michigan Electric Transmission Company, Dayton Power and Light Company, Detroit Edison Company and International Transmission Company

ER99-3144, 006, Alliance Companies, Ameren Corporation, Union Electric Company, Central Illinois Public Service Company, American Electric Power Service Corporation on behalf of: Appalachian Power Company, Columbus Southern Power Company, Indiana Michigan Power Company, Kentucky Power Company, Kingsport Power Company, Ohio Power Company, Wheeling Power Company, Consumers Energy Company and Michigan Electric Transmission Company, Dayton Power and Light Company, Detroit Edison Company and International Transmission Company

ER99-3144, 007, Alliance Companies, Ameren Corporation, Union Electric Company, Central Illinois Public Service Company, American Electric Power Service Corporation on behalf of: Appalachian Power Company, Columbus Southern Power Company, Indiana Michigan Power Company, Kentucky Power Company, Kingsport Power Company, Ohio Power Company, Wheeling Power Company, Consumers Energy Company and Michigan Electric Transmission Company, Dayton Power and Light Company, Detroit Edison Company and International Transmission Company

ER99-3144, 008, Alliance Companies, Ameren Corporation, Union Electric Company, Central Illinois Public Service Company, American Electric Power Service Corporation on behalf of: Appalachian Power Company, Columbus Southern Power Company, Indiana Michigan Power Company, Kentucky Power Company, Kingsport Power Company, Ohio Power Company, Wheeling Power Company, Consumers Energy Company and Michigan Electric Transmission Company, Dayton Power and Light Company, Detroit Edison Company and International Transmission Company

ER99-3144, 009, Alliance Companies, Ameren Corporation, Union Electric Company, Central Illinois Public Service Company, American Electric Power Service Corporation on behalf of: Appalachian Power Company, Columbus Southern Power Company, Indiana Michigan Power Company, Kentucky Power Company, Kingsport Power Company, Ohio Power Company, Wheeling Power Company, Consumers Energy Company and Michigan Electric Transmission Company, Dayton Power and Light Company, Detroit Edison Company and International Transmission Company

ER99-3144, 010, Alliance Companies, Ameren Corporation, Union Electric Company, Central Illinois Public Service Company, American Electric Power Service Corporation on behalf of: Appalachian Power Company, Columbus Southern Power Company, Indiana Michigan Power Company, Kentucky Power Company, Kingsport Power Company, Ohio Power Company, Wheeling Power Company, Consumers Energy Company and Michigan Electric Transmission Company, Dayton Power and Light Company, Detroit Edison Company and International Transmission Company

ER99-3144, 011, Alliance Companies, Ameren Corporation, Union Electric Company, Central Illinois Public Service Company, American Electric Power Service Corporation on behalf of: Appalachian Power Company, Columbus Southern Power Company, Indiana Michigan Power Company, Kentucky Power Company, Kingsport Power Company, Ohio Power Company, Wheeling Power Company, Consumers Energy Company and Michigan Electric Transmission Company, Dayton Power and Light Company, Detroit Edison Company and International Transmission Company

ER99-3144, 012, Alliance Companies, Ameren Corporation, Union Electric Company, Central Illinois Public Service Company, American Electric Power Service Corporation on behalf of: Appalachian Power Company, Columbus Southern Power Company, Indiana Michigan Power Company, Kentucky Power Company, Kingsport Power Company, Ohio Power Company, Wheeling Power Company, Consumers Energy Company and Michigan Electric Transmission Company, Dayton Power and Light Company, Detroit Edison Company and International Transmission Company

ER99-3144, 014, Alliance Companies, Ameren Corporation, Union Electric Company, Central Illinois Public Service Company, American Electric Power Service Corporation on behalf of: Appalachian Power Company, Columbus Southern Power Company, Indiana Michigan Power Company, Kentucky Power Company, Kingsport Power Company, Ohio Power Company, Wheeling Power Company, Consumers Energy Company and Michigan Electric Transmission Company, Dayton Power and Light Company, Detroit Edison Company and International Transmission Company

RT01-26, 000, Northern Indiana Public Service Company

RT01-37, 000, The Dayton Power and Light Company

RT01-84, 000, Illinois Power Company

RT01-84, 001, Illinois Power Company

RT01-88, 000, Alliance Companies, Ameren Corporation, Union Electric Company, Central Illinois Public Service Company, American Electric Power Service Corporation on behalf of: Appalachian Power Company, Columbus Southern Power Company, Indiana Michigan Power Company, Kentucky Power Company, Kingsport Power Company, Ohio Power Company, Wheeling Power Company, Consumers Energy Company and Michigan Electric Transmission Company, Dayton Power and Light Company, Detroit Edison Company and International Transmission Company

RT01-88, 001, Alliance Companies, Ameren Corporation, Union Electric Company, Central Illinois Public Service Company, American Electric Power Service Corporation on behalf of: Appalachian Power Company, Columbus Southern Power Company, Indiana Michigan Power Company, Kentucky Power Company, Kingsport Power Company, Ohio Power Company, Wheeling Power Company, Consumers Energy Company and Michigan Electric Transmission Company, Dayton Power and Light Company, Detroit Edison Company and International Transmission Company

RT01-88, 002, Alliance Companies, Ameren Corporation, Union Electric Company, Central Illinois Public Service Company, American Electric Power Service Corporation on behalf of: Appalachian Power Company, Columbus Southern Power Company, Indiana Michigan Power Company, Kentucky Power Company, Kingsport Power Company, Ohio Power Company, Wheeling Power Company, Consumers Energy Company and Michigan Electric Transmission Company, Dayton Power and Light Company, Detroit Edison Company and International Transmission Company

RT01-88, 003, Alliance Companies, Ameren Corporation, Union Electric Company, Central Illinois Public Service Company, American Electric Power Service Corporation on behalf of: Appalachian Power Company, Columbus Southern Power Company, Indiana Michigan Power Company, Kentucky Power Company, Kingsport Power Company, Ohio Power Company, Wheeling Power Company, Consumers Energy Company and Michigan Electric Transmission Company, Dayton Power and Light Company, Detroit Edison Company and International Transmission Company

RT01-88, 004, Alliance Companies, Ameren Corporation, Union Electric Company, Central Illinois Public Service Company, American Electric Power Service Corporation on behalf of: Appalachian Power Company, Columbus Southern Power Company, Indiana Michigan Power Company, Kentucky Power Company, Kingsport Power Company, Ohio Power Company, Wheeling Power Company, Consumers Energy Company and Michigan Electric Transmission Company, Dayton Power and Light Company, Detroit Edison Company and International Transmission Company

RT01-88, 006, Alliance Companies, Ameren Corporation, Union Electric Company, Central Illinois Public Service Company, American Electric Power Service Corporation on behalf of: Appalachian Power Company, Columbus Southern Power Company, Indiana Michigan Power Company, Kentucky Power Company, Kingsport Power Company, Ohio Power Company, Wheeling Power Company, Consumers Energy Company and Michigan Electric Transmission Company, Dayton Power and Light Company, Detroit Edison Company and International Transmission Company

RT01-88, 007, Alliance Companies, Ameren Corporation, Union Electric Company, Central Illinois Public Service Company, American Electric Power Service Corporation on behalf of: Appalachian Power Company, Columbus Southern Power Company, Indiana Michigan Power Company, Kentucky Power Company, Kingsport Power Company, Ohio Power Company, Wheeling Power Company, Consumers Energy Company and Michigan Electric Transmission Company, Dayton Power and Light Company, Detroit Edison Company and International Transmission Company

RT01-88, 008, Alliance Companies, Ameren Corporation, Union Electric Company, Central Illinois Public Service Company, American Electric Power Service Corporation on behalf of: Appalachian Power Company, Columbus Southern Power Company, Indiana Michigan Power Company, Kentucky Power Company, Kingsport Power Company, Ohio Power Company, Wheeling Power Company, Consumers Energy Company and Michigan Electric Transmission Company, Dayton Power and Light Company, Detroit Edison Company and International Transmission Company

RT01-88, 009, Alliance Companies, Ameren Corporation, Union Electric Company, Central Illinois Public Service Company, American Electric Power Service Corporation on behalf of: Appalachian Power Company, Columbus Southern Power Company, Indiana Michigan Power Company, Kentucky Power Company, Kingsport Power Company, Ohio Power Company, Wheeling Power Company, Consumers Energy Company and Michigan Electric Transmission Company, Dayton Power and Light Company, Detroit Edison Company and International Transmission Company

RT01-88, 010, Alliance Companies, Ameren Corporation, Union Electric Company, Central Illinois Public Service Company, American Electric Power Service Corporation on behalf of: Appalachian Power Company, Columbus Southern Power Company, Indiana Michigan Power Company, Kentucky Power Company, Kingsport Power Company, Ohio Power Company, Wheeling Power Company, Consumers Energy Company and Michigan Electric Transmission Company, Dayton Power and Light Company, Detroit Edison Company and International Transmission Company

RT01-88, 011, Alliance Companies, Ameren Corporation, Union Electric Company, Central Illinois Public Service Company, American Electric Power Service Corporation on behalf of: Appalachian Power Company, Columbus Southern Power Company, Indiana Michigan Power Company, Kentucky Power Company, Kingsport Power Company, Ohio Power Company, Wheeling Power Company, Consumers Energy Company and Michigan Electric Transmission Company, Dayton Power and Light Company, Detroit Edison Company and International Transmission Company

ER01-123, 000, Illinois Power Company

ER01-123, 001, Illinois Power Company

ER01-123, 002, Illinois Power Company

ER01-123, 003, Illinois Power Company

ER01-123, 004, Illinois Power Company

ER01-2992, 000, Exelon Corporation on behalf of: Commonwealth Edison Company and Commonwealth Edison Company of Indiana, Inc., First Energy Corporation on behalf of: American Transmission Systems, Inc., The Cleveland Electric Illuminating Company, Ohio Edison Company, Pennsylvania Power Company and The Toledo Company

ER01-2993, 000, Virginia Electric and Power Company

ER01-2995, 000, American Electric Power Company, Appalachian Power Company, Columbus Southern Power Company, Indiana Michigan Power Company, Kingsport Power Company, Ohio Power Company and Wheeling Power Company

ER01-2997, 000, The Dayton Power and Light Company

ER01-2999, 000, Illinois Power Company

RT01-37, 001, The Dayton Power and Light Company

RT01-26, 001, Northern Indiana Public Service Company

E-25.

DOCKET# ER01-1152, 000, PacifiCorp

OTHER#S ER01-1152, 001, PacifiCorp

ER01-1152, 002, PacifiCorp

ER01-1152, 003, PacifiCorp

E-26.

DOCKET# ER01-1938, 000, Southern Indiana Gas & Electric Company

E-27.

DOCKET# ER01-2566, 000, Public Service Company of New Mexico

OTHER#S ER01-2566, 001, Public Service Company of New Mexico

ER01-2566, 002, Public Service Company of New Mexico

ER01-2566, 003, Public Service Company of New Mexico

E-28.

DOCKET# ER01-2754, 000, Nevada Power Company

OTHER#S ER01-2754, 001, Nevada Power Company

ER01-2755, 000, Nevada Power Company

ER01-2755, 001, Nevada Power Company

ER01-2757, 000, Sierra Pacific Power Company and Nevada Power Company

ER01-2757, 001, Sierra Pacific Power Company and Nevada Power Company

ER01-2758, 000, Sierra Pacific Power Company and Nevada Power Company

ER01-2758, 001, Sierra Pacific Power Company and Nevada Power Company

ER01-2759, 000, Sierra Pacific Power Company and Nevada Power Company

ER01-2759, 001, Sierra Pacific Power Company and Nevada Power Company

E-29.

DOCKET# ER01-3000, 000, International Transmission Company

OTHER#S RT01-101, 000, International Transmission Company

EC01-146, 000, DTE Energy Company

E-30.

DOCKET# ER01-3066, 000, Southern Power Company

OTHER#S ER01-3067, 000, Southern Power Company

ER00-2998, 001, Southern Company Services, Inc.

ER00-2999, 001, Southern Company Services, Inc.

ER00-3000, 001, Southern Company Services, Inc.

ER00-3001, 001, Southern Company Services, Inc.

E-31.

DOCKET# ER02-42, 000, GWF Energy LLC

OTHER#S ER00-2998, 001, Southern Company Services, Inc.

ER00-2999, 001, Southern Company Services, Inc.

ER00-3000, 001, Southern Company Services, Inc.

ER00-3001, 001, Southern Company Services, Inc.

E-32.

DOCKET# ER02-22, 000, Dresden Energy, LLC, S.W.E.C., LLC, Armstrong Energy Limited Partnership, LLLP and Troy Energy, LLC.

OTHER#S ER02-23, 000, Dresden Energy, LLC, S.W.E.C., LLC, Armstrong Energy Limited Partnership, LLLP and Troy Energy, LLC.

ER02-24, 000, Dresden Energy, LLC, S.W.E.C., LLC, Armstrong Energy Limited Partnership, LLLP and Troy Energy, LLC.

ER02-25, 000, Dresden Energy, LLC, S.W.E.C., LLC, Armstrong Energy Limited Partnership, LLLP and Troy Energy, LLC.

ER02-300, 000, Dresden Energy, LLC, S.W.E.C., LLC, Armstrong Energy Limited Partnership, LLLP and Troy Energy, LLC.

ER02-301, 000, Dresden Energy, LLC, S.W.E.C., LLC, Armstrong Energy Limited Partnership, LLLP and Troy Energy, LLC.

E-33.

OMITTED

E-34.

DOCKET# RT01-87, 000, Midwest Independent Transmission System Operator, Inc.

OTHER#S RT01-87, 001, Midwest Independent Transmission System Operator, Inc.

ER02-106, 000, Midwest Independent Transmission System Operator, Inc.

ER02-108, 000, Midwest Independent Transmission System Operator, Inc.

E-35. DOCKET# EL00-95, 034, San Diego Gas & Electric Company v. Sellers of Energy and Ancillary Services Into Markets Operated by the California Independent System Operator and the California Power Exchange

OTHER#S EL00-95, 008, San Diego Gas & Electric Company v. Sellers of Energy and Ancillary Services Into Markets Operated by the California Independent System Operator and the California Power Exchange

EL00-95, 040, San Diego Gas & Electric Company v. Sellers of Energy and Ancillary Services Into Markets Operated by the California Independent System Operator and the California Power Exchange

EL00-98, 009, Investigation of Practices of the California Independent System Operator and the California Power Exchange

EL00-98, 033, Investigation of Practices of the California Independent System Operator and the California Power Exchange

EL00-98, 038, Investigation of Practices of the California Independent System Operator and the California Power Exchange

E-36.

DOCKET# EL01-111, 000, California Independent System Operator Corporation

E-37.

DOCKET# EL00-95, 025, San Diego Gas & Electric Company v. Sellers of Energy and Ancillary Service into Markets Operated by the California Independent System Operator Corporation and the California Power Exchange

OTHER#S EL00-95, 022, San Diego Gas & Electric Company v. Sellers of Energy and Ancillary Service into Markets Operated by the California Independent System Operator Corporation and the California Power Exchange

EL00-95, 023, San Diego Gas & Electric Company v. Sellers of Energy and Ancillary Service into Markets Operated by the California Independent System Operator Corporation and the California Power Exchange

EL00-95, 024, San Diego Gas & Electric Company v. Sellers of Energy and Ancillary Service into Markets Operated by the California Independent System Operator Corporation and the California Power Exchange

EL00-98, 021, Investigation of Practices of the California Independent System Operator Corporation and the California Power Exchange

EL00-98, 022, Investigation of Practices of the California Independent System Operator Corporation and the California Power Exchange

EL00-98, 023, Investigation of Practices of the California Independent System Operator Corporation and the California Power Exchange

EL00-98, 024, Investigation of Practices of the California Independent System Operator Corporation and the California Power Exchange

E-38.

DOCKET# ER98-3813, 007, DukeSolutions, Inc.

E-39.

DOCKET# OA96-161, 000, Puget Sound Energy, Inc.

OTHER#S ER96-697, 000, Puget Sound Energy, Inc.

ER96-697, 001, Puget Sound Energy, Inc.

ER96-1456, 000, Puget Sound Energy, Inc.

ER96-1456, 001, Puget Sound Energy, Inc.

ER97-4468, 000, Puget Sound Energy, Inc.

E-40.

DOCKET# EC02-2, 000, Commonwealth Atlantic Limited Partnership, and Commonwealth Atlantic Power, LLC

OTHER#S ER90-24, 002, Commonwealth Atlantic Limited Partnership, and Commonwealth Atlantic Power, LLC

ER91-215, 001, Commonwealth Atlantic Limited Partnership, and Commonwealth Atlantic Power, LLC

E-41.

DOCKET# EC01-137, 000, DTE Energy Company and International Transmission Company

E-42.

DOCKET# EC02-7, 000, Rockland Electric Company and PJM Interconnection, L.L.C.

OTHER#S ER02-109, 000, Rockland Electric Company and PJM Interconnection, L.L.C.

E-43. DOCKET# EC02-20, 000, Green Country Energy, LLC

OTHER#S EL02-17, 000, Green Country Energy, LLC

E-44.

OMITTED

E-45.

DOCKET# EL00-95, 048, San Diego Gas & Electric Company v. Sellers of Energy and Ancillary Service into Markets Operated by the California Independent System Operator Corporation and the California Power Exchange

OTHER#S EL00-95, 049, San Diego Gas & Electric Company v. Sellers of Energy and Ancillary Service into Markets Operated by the California Independent System Operator Corporation and the California Power Exchange

E-46.

DOCKET# EG02-13, 000, Cinergy Power Investments, Inc.

E-47.

DOCKET# EL01-68, 000, Investigation of Wholesale Rates of Public Utility Sellers of Energy and Ancillary Services in the Western Systems Coordinating Council

E-48.

DOCKET# EL00-95, 045, San Diego Gas & Electric Company v. Sellers of Energy and Ancillary Service into Markets Operated by the California Independent System Operator Corporation and the California Power Exchange

OTHER#S

EL00-98, 042, Investigation of Practices of the California Independent System Operator Corporation and the California Power Exchange

EL01-36, 000. Coral Power, L.L.C., Enron Power Marketing, Inc., Arizona Public Service Company, Cargill Alliant, LLC, San Diego Gas & Electric Company, Avista Energy, Inc., Sempra Energy Trading Corporation, PacifiCorp and Constellation Power Source v. California Power Exchange Corporation

EL01-37, 000, Salt River Project Agricultural Improvement and Power District and Sacramento Municipal Utility District v. California Power Exchange Corporation

EL01-43, 000, Public Service Company of New Mexico v. California Power Exchange Corporation

E-49.

DOCKET# ER01-1136 004 Ameren Services Company

E-50.

DOCKET# ER01-1639, 003, Pacific Gas & Electric Company

E-51.

DOCKET# ER02-139, 000, Florida Power & Light Company

E-52. OMITTED

E-53.

DOCKET# EL01-7, 000, Pacific Gas and Electric Company v. Sunnyside Cogeneration Partners, L.P. RW Monterey, Inc., Ridgewood Electric Power Trust II and Ridgewood Power LLC

OTHER#S QF91-50, 000, Pacific Gas and Electric Company v. Sunnyside Cogeneration Partners, L.P. RW Monterey, Inc., Ridgewood Electric Power Trust II and Ridgewood Power LLC

E-54.

DOCKET# EL01-80 001 National Grid USA

OTHER#S EC99-80, 013 Alliance Companies, Ameren Corporation, Union Electric Company, Central Illinois Public Service Company, American Electric Power Service Corporation on behalf of: Appalachian Power Company, Columbus Southern Power Company, Indiana Michigan Power Company, Kentucky Power Company, Kingsport Power Company, Ohio Power Company, Wheeling Power Company, Consumers Energy Company and Michigan Electric Transmission Company, Dayton Power and Light Company, Detroit Edison Company and International Transmission Company

EC99-80, 015, Alliance Companies, Ameren Corporation, Union Electric Company, Central Illinois Public Service Company, American Electric Power Service Corporation on behalf of: Appalachian Power Company, Columbus Southern Power Company, Indiana Michigan Power Company, Kentucky Power Company, Kingsport Power Company, Ohio Power Company, Wheeling Power Company, Consumers Energy Company and Michigan Electric Transmission Company, Dayton Power and Light Company, Detroit Edison Company and International Transmission Company

ER99-3144, 013, Alliance Companies, Ameren Corporation, Union Electric Company, Central Illinois Public Service Company, American Electric Power Service Corporation on behalf of: Appalachian Power Company, Columbus Southern Power Company, Indiana Michigan Power Company, Kentucky Power Company, Kingsport Power Company, Ohio Power Company, Wheeling Power Company, Consumers Energy Company and Michigan Electric Transmission Company, Dayton Power and Light Company, Detroit Edison Company and International Transmission Company

RT01-88, 005, Alliance Companies, Ameren Corporation, Union Electric Company, Central Illinois Public Service Company, American Electric Power Service Corporation on behalf of: Appalachian Power Company, Columbus Southern Power Company, Indiana Michigan Power Company, Kentucky Power Company, Kingsport Power Company, Ohio Power Company, Wheeling Power Company, Consumers Energy Company and Michigan Electric Transmission Company, Dayton Power and Light Company, Detroit Edison Company and International Transmission Company

RT01-88, 012, Alliance Companies, Ameren Corporation, Union Electric Company, Central Illinois Public Service Company, American Electric Power Service Corporation on behalf of: Appalachian Power Company, Columbus Southern Power Company, Indiana Michigan Power Company, Kentucky Power Company, Kingsport Power Company, Ohio Power Company, Wheeling Power Company, Consumers Energy Company and Michigan Electric Transmission Company, Dayton Power and Light Company, Detroit Edison Company and International Transmission Company

ER01-2995, 000, American Electric Power Company, Appalachian Power Company, Columbus Southern Power Company, Indiana Michigan Power Company, Kingsport Power Company, Ohio Power Company and Wheeling Power Company

ER01-2992, 000, Exelon Corporation on behalf of: Commonwealth Edison Company and Commonwealth Edison Company of Indiana, Inc., First Energy Corporation on behalf of: American Transmission Systems, Inc., The Cleveland Electric Illuminating Company, Ohio Edison Company, Pennsylvania Power Company and The Toledo Company

ER01-2993, 000, Virginia Electric and Power Company

RT01-26, 000, Northern Indiana Public Service Company

RT01-37, 000, The Dayton Power and Light Company

RT01-84, 000, Illinois Power Company

ER01-123, 000, Illinois Power Company

ER01-2999, 000, Illinois Power Company

E-55.

DOCKET# EL02-22, 000, Allegheny Energy Supply Company, LLC

E-56.

DOCKET# EL00-99, 000, Maine Public Utilities Commission, United Illuminating Company and Bangor Hydro-Electric Company v. ISO New England, Inc.

OTHER#S EL00-100, 000, Maine Public Utilities Commission, United Illuminating Company and Bangor Hydro-Electric Company v. ISO New England, Inc.

EL00-112, 000, Maine Public Utilities Commission, United Illuminating Company and Bangor Hydro-Electric Company v. ISO New England, Inc.

E-57.

DOCKET# EL00-79 000 Mid-Tex G&T Electric Cooperative, Inc., Big Country Electric Cooperative, Inc., Coleman County Electric Cooperative, Inc., Concho Valley Electric Cooperative, Inc., Golden Spread Electric Cooperative, Inc., Kimble Electric Cooperative, Inc., Lighthouse Electric Cooperative, Inc., Rio Grande Electric Cooperative, Inc., Southwest Texas Electric Cooperative, Inc. and Taylor Electric Cooperative, Inc. v. West Texas Utilities Company

E-58.

DOCKET# EL01-86, 000, Indeck Maine Energy, L.L.C. v. ISO New England Inc.

E-59.

DOCKET# EL01-92, 000, Bangor Hydro-Electric Company v. ISO New England Inc.

E-60.

DOCKET# EL01-106, 000, Old Dominion Electric Cooperative v. PJM Interconnection, L.L.C.

E-61.

DOCKET# EL01-40, 000, Tucson Electric Power Company

E-62.

DOCKET# ER99-3426, 002, San Diego Gas & Electric Company

E-63.

DOCKET# ER99-4392, 001, Southwest Power Pool, Inc.

E-64.

DOCKET# ER00-1969, 002, New York Independent System Operator, Inc.

OTHER#S ER00-1969, 003 New York Independent System Operator, Inc.

EL00-57, 001 Niagara Mohawk Power Corporation v. New York Independent System Operator, Inc.

EL00-57, 002 Niagara Mohawk Power Corporation v. New York Independent System Operator, Inc.

EL00-60, 001, Orion Power New York GP, Inc. v. New York Independent System Operator, Inc.

EL00-60, 002, Orion Power New York GP, Inc. v. New York Independent System Operator, Inc.

EL00-63, 000, New York State Electric & Gas Corporation v. New York Independent System Operator, Inc.

EL00-63, 002, New York State Electric & Gas Corporation v. New York Independent System Operator, Inc.

EL00-64, 000, Rochester Gas and Electric Corporation v. New York Independent System Operator, Inc.

EL00-64, 002, Rochester Gas and Electric Corporation v. New York Independent System Operator, Inc.

E-65.

DOCKET# EL00-95, 001, San Diego Gas & Electric Company v. Sellers of Energy and Ancillary Services into Markets Operated by the California Independent System Operator and the California Power Exchange

OTHER#S EL00-95, 004, San Diego Gas & Electric Company v. Sellers of Energy and Ancillary Services into Markets Operated by the California Independent System Operator and the California Power Exchange

EL00-95, 005, San Diego Gas & Electric Company v. Sellers of Energy and Ancillary Services into Markets Operated by the California Independent System Operator and the California Power Exchange

EL00-95, 006, San Diego Gas & Electric Company v. Sellers of Energy and Ancillary Services into Markets Operated by the California Independent System Operator and the California Power Exchange

EL00-95, 007, San Diego Gas & Electric Company v. Sellers of Energy and Ancillary Services into Markets Operated by the California Independent System Operator and the California Power Exchange

EL00-95, 010, San Diego Gas & Electric Company v. Sellers of Energy and Ancillary Services into Markets Operated by the California Independent System Operator and the California Power Exchange

EL00-95, 011, San Diego Gas & Electric Company v. Sellers of Energy and Ancillary Services into Markets Operated by the California Independent System Operator and the California Power Exchange

EL00-95, 019, San Diego Gas & Electric Company v. Sellers of Energy and Ancillary Services into Markets Operated by the California Independent System Operator and the California Power Exchange

EL00-95, 039, San Diego Gas & Electric Company v. Sellers of Energy and Ancillary Services into Markets Operated by the California Independent System Operator and the California Power Exchange

EL00-95, 046, San Diego Gas & Electric Company v. Sellers of Energy and Ancillary Services into Markets Operated by the California Independent System Operator and the California Power Exchange

EL00-95, 047, San Diego Gas & Electric Company v. Sellers of Energy and Ancillary Services into Markets Operated by the California Independent System Operator and the California Power Exchange

EL00-97, 001, Reliant Energy Power Generation, Inc., Dynegy Power Marketing, Inc. and Southern Energy California, L.L.C. v. California Independent System Operator Corporation

EL00-98, 001, Investigation of Practices of the California Independent System Operator Corporation and the California Power Exchange

EL00-98, 004, Investigation of Practices of the California Independent System Operator Corporation and the California Power Exchange

EL00-98, 005, Investigation of Practices of the California Independent System Operator Corporation and the California Power Exchange

EL00-98, 006, Investigation of Practices of the California Independent System Operator Corporation and the California Power Exchange

EL00-98, 008, Investigation of Practices of the California Independent System Operator Corporation and the California Power Exchange

EL00-98, 010, Investigation of Practices of the California Independent System Operator Corporation and the California Power Exchange

EL00-98, 011, Investigation of Practices of the California Independent System Operator Corporation and the California Power Exchange

EL00-98, 018, Investigation of Practices of the California Independent System Operator Corporation and the California Power Exchange

EL00-98, 037, Investigation of Practices of the California Independent System Operator Corporation and the California Power Exchange

EL00-98, 043, Investigation of Practices of the California Independent System Operator Corporation and the California Power Exchange

EL00-98, 044, Investigation of Practices of the California Independent System Operator Corporation and the California Power Exchange

EL00-104, 001, California Electricity Oversight Board v. All Sellers of Energy and Ancillary Services into the Energy and Ancillary Services Markets Operated by the California Independent System Operator and the California Power Exchange

EL00-107, 002, Public Meeting in San Diego, California

ER00-3461, 001, California Power Exchange Corporation

ER00-3673, 001, California Independent System Operator

EL01-1, 001, California Municipal Utilities Association v. All Jurisdictional Sellers of Energy and Ancillary Services into Markets Operated by the California Independent System Operator and the California Power Exchange

EL01-2, 001, Californians for Renewable Energy, Inc. v. Independent Energy Producers, Inc. and All Sellers of Energy and Ancillary Services into Markets Operated by the California Independent System Operator and the California Power Exchange; All Scheduling Coordinators Acting on behalf of the Above Sellers; California Independent System Operator Corporation and California Power Exchange Corporation

EL01-10, 001, Puget Sound Energy, Inc. v. All Jurisdictional Sellers of Energy and/or Capacity at Wholesale into Electric Energy and/or Capacity Markets in the Pacific Northwest, including Parties to the Western Systems Power Pool Agreement

EL01-34, 000, Southern California Edison Company and Pacific Gas and Electric Company

EL01-34, 001, Southern California Edison Company and Pacific Gas and Electric Company

EL01-68, 002, Investigation of Wholesale Rates of Public Utility Sellers of Energy and Ancillary Services in the Western Systems Coordinating Council

EL01-68, 008, Investigation of Wholesale Rates of Public Utility Sellers of Energy and Ancillary Services in the Western Systems Coordinating Council

RT01-85, 002, California Independent System Operator Corporation

RT01-85, 005, California Independent System Operator Corporation

ER01-607, 000, California Independent System Operator Corporation

ER01-607, 001, California Independent System Operator Corporation

ER01-1444, 001, Arizona Public Service Company

ER01-1445, 001, Automated Power Exchange, Inc.

ER01-1446, 001, Avista Energy, Inc.

ER01-1447, 001, California Power Exchange Corporation

ER01-1448, 002, Duke Energy Trading and Marketing, LLC

ER01-1449, 002, Dynegy Power Marketing, Inc.

ER01-1450, 001, Nevada Power Company

ER01-1451, 002, Portland General Electric Company

ER01-1452, 001, Public Service Company of Colorado

ER01-1453, 001, Reliant Energy Services, Inc.

ER01-1454, 002, Sempra Energy Trading Corporation

ER01-1455, 002, Mirant California, LLC, Mirant Delta, LLC and Mirant Potrero, LLC

ER01-1456, 002, Williams Energy Services Corporation

ER01-1579, 001, California Independent System Operator Corporation

E-66.

DOCKET# ER01-2536, 002, New York Independent System Operator, Inc.

E-67.

DOCKET# ER01-312, 002, Alliant Energy Corporate Services, Inc.

E-68.

DOCKET# EL01-104, 001, Dynegy Power Marketing, Inc. v. Southwest Power Pool, Inc.

E-69.

DOCKET# EL00-62, 038, ISO New England Inc.

E-70.

DOCKET# EL01-93, 002, Mirant Americas Energy Marketing, L.P., Mirant New England, LLC, Mirant Kendall, LLC and Mirant, LLC v. ISO New England Inc.

E-71.

DOCKET# RM00-1, 000, Electronic Filing of FERC Form No. 423

E-72.

DOCKET# RM01-8, 000, Revised Public Utility Filing Requirements

E-73.

DOCKET# OA02-1, 000, Central Maine Power Company

E-74.

DOCKET# OA02-2, 000, Maine Electric Power Company, Inc.

E-75.

DOCKET# ER02-207, 000, Exelon Generation Company, LLC and Exelon Energy Company

OTHER#S ER00-2998 001 Southern Company Services, Inc.

ER00-2999, 001, Southern Company Services, Inc.

ER00-3000, 001, Southern Company Services, Inc.

ER00-3001, 001, Southern Company Services, Inc.

E-76.

DOCKET# EG02-14, 000, Nine Mile Point Nuclear Station, LLC

E-77.

DOCKET# EL01-122, 000, PJM Interconnection L.L.C.

OTHER#S IN01-7, 000, Exelon Corporation, PECO Energy Company, Exelon Generation Company, L.L.C. and Exelon Power Team

E-78.

DOCKET# EL01-73, 001 Northeast Texas Electric Cooperation, Inc., Rusk County Electric Cooperative, Inc., Upshur-Rural Electric Cooperative, Inc. and Wood County Electric Cooperative, Inc.

E-79.

DOCKET# ER01-2413, 001, American Electric Power Service Corporation

Miscellaneous Agenda

M-1.

DOCKET# RM02-3, 000, Accounting and Reporting of Financial Instruments, Comprehensive Income, Derivatives and Hedging Activities

M-2.

DOCKET# RM02-5, 000, Amendment to Rules Governing Off-the-Record Communications

Markets, Tariffs and Rates—Gas Agenda

G-1.

DOCKET# RP00-328, 001, Algonquin LNG, Inc.

G-2.

DOCKET# RP01-169, 000, Northern Natural Gas Company

OTHER#S RP01-169, 001, Northern Natural Gas Company

G-3.

DOCKET# PR01-9, 000, Cranberry Pipeline Corporation

G-4.

DOCKET# RP00-395, 002, Panhandle Eastern Pipe Line Company

OTHER#S RP96-348, 010, Panhandle Eastern Pipe Line Company

RP00-613, 000, Panhandle Eastern Pipe Line Company

G-5.

DOCKET# RP00-332, 000, ANR Pipeline Company

OTHER#S RP00-597, 001, ANR Pipeline Company

RP00-332, 001, ANR Pipeline Company

RP00-597, 001, ANR Pipeline Company

G-6.

OMITTED

G-7.

DOCKET# RP00-406, 000, Great Lakes Gas Transport, L.L.C.

OTHER#S RP01-53, 001, Great Lakes Gas Transport, L.L.C.

G-8.

DOCKET# RP01-172, 003, Mojave Pipeline Company

G-9.

DOCKET# PR01-5, 000, Magic Valley Pipeline, L.P.

G-10.

DOCKET# PR01-7, 000, Transok, LLC

G-11.

DOCKET# RP01-262, 001, Columbia Gas Transmission Corporation

OTHER#S RP01-262, 002, Columbia Gas Transmission Corporation

G-12.

DOCKET# RP01-245, 005, Transcontinental Gas Pipe Line Corporation

G-13.

DOCKET# RP00-325, 006, Colorado Interstate Gas Company

OTHER#S RP01-38, 003, Colorado Interstate Gas Company

G-14.

DOCKET# RM96-1, 020, Standards for Business Practices of Interstate Natural Gas Pipelines

G-15.

DOCKET# RP00-241, 000, Public Utilities Commission of the State of California v. El Paso Natural Gas Company, El Paso Merchant Energy-Gas, L.P. and El Paso Merchant Energy Company

G-16.

DOCKET# RP00-390, 003, Granite State Gas Transmission, Inc.

OTHER#S RP00-390, 002, Granite State Gas Transmission, Inc.

G-17.

DOCKET# RP01-278, 003, Texas Gas Transmission Corporation

OTHER#S RP01-278, 002, Texas Gas Transmission Corporation

Energy Projects—Hydro

H-1.

DOCKET# P-11393, 009, City of Saxman, Alaska

H-2.

DOCKET# P-2069, 006, Arizona Public Service Company

H-3.

DOCKET# P-2342, 012, PacifiCorp

H-4.

DOCKET# P-137, 030, Pacific Gas and Electric Company

H-5.

DOCKET# P-2114, 102, Public Utility District No. 2 of Grant County, Washington

Energy Projects—Certificates

C-1.

DOCKET# CP01-4, 000, Maritimes & Northeast Pipeline, L.L.C.

OTHER#S CP01-5, 000, Algonquin Gas Transmission Company

CP01-5 001 Algonquin Gas Transmission Company

C-2.

DOCKET# CP01-87, 000, Dominion Transmission, Inc.

OTHER#S CP01-87, 002, Dominion Transmission, Inc.

C-3.

DOCKET# CP01-384, 000, Islander East Pipeline Company, L.L.C.

OTHER#S CP01-387, 000, Algonquin Gas Transmission Company

CP01-385, 000, Islander East Pipeline Company, L.L.C.

CP01-386, 000, Islander East Pipeline Company, L.L.C.

C-4.

DOCKET# CP01-406, 000, Transok, LLC

OTHER#S CP01-407, 000, Ozark Gas Transmission, L.L.C.

C-5.

DOCKET# CP01-375, 000, East Tennessee Natural Gas Company

C-6.

DOCKET# CP98-150, 000, Millennium Pipeline Company, L.P.

OTHER#S CP98-150, 002, Millennium Pipeline Company, L.P.

CP98-154, 000, Millennium Pipeline Company, L.P.

CP98-155, 000, Millennium Pipeline Company, L.P.

CP98-156, 000, Millennium Pipeline Company, L.P.

CP98-151, 000, Columbia Gas Transmission Corporation

C-7.

DOCKET# CP01-376, 000, Intermountain Municipal Gas Agency v. Questar Gas Company

C-8.

OMITTED

C-9.

DOCKET# CP01-103, 001, Transcontinental Gas Pipe Line Corporation

OTHER#S CP01-104, 001, Williams Gas Processing-Gulf Coast Company, L.P.

C-10.

DOCKET# CP01-368, 001, Transcontinental Gas Pipe Line Corporation

OTHER#S RP01-245, 004, Transcontinental Gas Pipe Line Corporation

CP01-369, 000, Williams Gas Processing-Gulf Coast Company, L.P.

C-11.

DOCKET# CP01-34, 002, Transcontinental Gas Pipe Line Corporation

OTHER#S CP01-32, 001, Williams Gas Processing-Gulf Coast Company, L.P.

C-12.

DOCKET# CP01-76, 001, Cove Point LNG Limited Partnership

OTHER#S CP01-156, 001, Cove Point LNG Limited Partnership

CP01-77, 001, Cove Point LNG Limited Partnership

RP01-217, 001, Cove Point LNG Limited Partnership

C-13.

DOCKET# CP97-315, 006, Independence Pipeline Company

OTHER#S CP97-319, 004, ANR Pipeline Company

C-14.

DOCKET# CP00-232, 000, Iroquois Gas Transmission System, L.P.

OTHER#S CP00-232, 001, Iroquois Gas Transmission System, L.P.

CP00-232, 002, Iroquois Gas Transmission System, L.P.

Administrative Agenda

A-1.

DOCKET# AD02-1, 000, Agency Administrative Matters

A-2.

DOCKET# AD02-7, 000, Customer Matters, Reliability, Security and Market Operations

Linwood A. Watson, Jr.,
Acting Secretary.

[FR Doc. 01-31059 Filed 12-13-01; 10:13 am]

BILLING CODE 6717-01-P